NUCLEAR REGULATORY COMMISSION

Advisory Committee on the Medical Uses of Isotopes: Call for Nominations

AGENCY: U.S. Nuclear Regulatory Commission.

ACTION: Call for nominations.

SUMMARY: The U.S. Nuclear Regulatory Commission (NRC) is advertising for nominations for the positions of health care administrator and nuclear cardiologist on the Advisory Committee on the Medical Uses of Isotopes (ACMUI). Nominees for the position of the health care administrator should have professional or personal experience with or knowledge about health care administration. Nominees for the position of the nuclear cardiologist should be a physician with professional or personal experience with or knowledge about nuclear cardiology.

DATES: Nominations are due on or before December 14, 2012.

Nomination Process: Submit an electronic copy of a resume or curriculum vitae, along with a cover letter, to Ms. Sophie Holiday, sophie.holiday@nrc.gov.

The cover letter for the health care administrator should describe the nominee's current involvement with health care administration and express the nominee's interest in the position. Please ensure that the resume or curriculum vitae includes the following information, if applicable: Education; certification; professional association membership and committee membership activities; and number of years, recentness, and type of setting for health care administration.

The cover letter for the nuclear cardiologist should describe the nominee's current involvement with nuclear cardiology and express the nominee's interest in the position.

Please ensure that the resume or curriculum vitae includes the following information, as applicable: Education; certification; professional association membership and committee membership activities; and number of years, recentness, and type of setting for nuclear cardiology.

FOR FURTHER INFORMATION CONTACT: Ms. Sophie Holiday, U.S. Nuclear Regulatory Commission, Office of Federal and State Materials and Environmental Management Programs; (301) 415-7865; sophie.holiday@nrc.gov.

SUPPLEMENTARY INFORMATION: The health care administrator and nuclear cardiologist provide advice to NRC staff on issues associated with the regulation of medical applications of byproduct material. The nominee for the health care administrator position is appointed based on his or her professional and personal experience with and/or knowledge about health care administration, involvement and/or leadership with health care organizations, and related experience obtained in letters or during the selection process. The nominee for the nuclear cardiologist position is appointed based on his or her professional and personal experience with and/or knowledge about nuclear cardiology, involvement and/or leadership with nuclear cardiology organizations, and related experience obtained in letters or during the selection process. Nominees should have the demonstrated ability to establish effective work relationships with peers and implement successful approaches to problem solving and conflict resolution.

NRC is inviting nominations for the appointments of the health care administrator and nuclear cardiologist to the ACMUI. The term of the individual currently occupying the health care administrator position will end May 2013 and the term of the individual currently occupying the nuclear cardiologist position will end October 2013.

ACMUI members currently serve a four-year term and may be considered for reappointment to an additional term. The current membership is comprised of the following professionals: (a) Nuclear medicine physician; (b) nuclear cardiologist; (c) nuclear medicine physicist; (d) therapy medical physicist; (e) radiation safety officer; (f) nuclear pharmacist; (g) two radiation oncologists; (h) patients' rights advocate; (i) Food and Drug Administration representative; (j) Agreement State representative; (k) health care administrator; and (l) diagnostic radiologist. For additional information about membership on the ACMUI, visit the ACMUI Membership Web page, http://www.nrc.gov/about-nrc/regulatory/advisory/acmui/membership.html.

Nominees must be U.S. citizens and be able to devote approximately 160 hours per year to Committee business. Members are expected to attend semi-annual meetings in Rockville, Maryland and to participate in teleconferences, as needed. Members who are not Federal employees are compensated for their service. In addition, these members are reimbursed for travel and correspondence expenses. Full-time Federal employees are reimbursed for travel expenses only.

Security Background Check: The selected nominee will undergo a thorough security background check. Security paperwork may take the nominee several weeks to complete. Nominees will also be required to complete a financial disclosure statement to assure that there are no conflicts of interest.

Dated at Rockville, Maryland, this 10th day of October 2012.
For the U.S. Nuclear Regulatory Commission.
Andrew L. Bates,
Advisory Committee Management Officer.

[FR Doc. 2012-25242 Filed 10-12-12; 8:45 am]

BILLING CODE 7590-01-P